DEPARTMENT OF THE INTERIOR

Bureau of Reclamation

[INT-DES-01-02]

Pick-Sloan Missouri Basin Program, Angostura Unit, South Dakota

AGENCY: Bureau of Reclamation, Interior.

ACTION: Notice of availability and public hearing on draft environmental impact statement (DEIS).

SUMMARY: Pursuant to section 102(2)(C) of the National Environmental Policy Act of 1969, as amended, the Department of the Interior, Bureau of Reclamation, has prepared a DEIS on the proposed renewal of a long-term water service contract for irrigation water from the Federal Angostura Unit, Cheyenne River basin, South Dakota. The DEIS describes four alternatives, including no action, and evaluates their environmental consequences. No Preferred Alternative has been chosen at this time. One will be selected after the public review period. Public hearings have been scheduled to provide interested parties an opportunity to provide oral or written comments on the proposed renewal of a long-term water service contract.

DATES: A 90-day public review and comment period commences with the publication of this notice. Written comments on the DEIS should be submitted by April 27, 2001.

Written comments from interested parties unable to attend the hearings, those not wanting to make oral presentations, or those wishing to supplement their oral presentations at the public hearing should be transmitted to the Rapid City Field Office by April 27, 2001, for inclusion in the public record.

Public hearings have been scheduled for the following dates, times, and locations:

February 13, 2001, 7-9 PM, Rushmore Plaza Holiday Inn 505 N 5th St., Rapid City, South Dakota

February 14, 2001, 7-9 PM, Mueller Civic Center, 801 S. 6th St., Hot Springs, South Dakota

February 15, 2001, 1-5 PM, Oglala Lakota College, 3 Mile Creek, Piya Wiconi Rd., Kyle, South Dakota

February 21, 2000, 2-4 PM, Super 8 Motel, West Highway 212, Eagle Butte, South Dakota

February 22, 2001, 2-4 PM, Lower Brule Convention Center, Lower Brule Sioux Tribe, Lower Brule, South Dakota

Written comments on the DEIS should be submitted to the Rapid City Field Office Manager (Attention: Kenneth Parr), 515 9th Street, Room 101, Rapid City, SD 57701, or through email to kparr@gp.usbr.gov.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

You may request a Summary of the DEIS or the entire DEIS (with appendices in printed copy or on computer disk). Copies may be obtained from the above address, by telephone (605) 394-9757 ext. 3004, or through email at kparr@gp.usbr.gov. Copies are also available for public inspection and review on the internet at “www.dka.gp.usbr.gov” in the “Current Activities” section under “Angostura Unit”.

See SUPPLEMENTARY INFORMATION section for additional addresses where the DEIS is available for public inspection and review.

FOR FURTHER INFORMATION CONTACT: Kenneth Parr, Rapid City Field Office, 515 9th Street, Room 101, Rapid City, SD 57701 telephone—(605) 394-9757 ext. 3004, or email kparr@gp.usbr.gov

SUPPLEMENTARY INFORMATION:

DEIS Public Inspection and Review Locations

Offices

• Bureau of Reclamation, Rapid City Field Office, 515 9th Street, Room 101, Rapid City, SD 57701—telephone (605) 394-9757 ext. 3004.

• Bureau of Reclamation, Dakotas Area Office, 304 East Broadway Ave., Bismarck, ND 58502—telephone (701) 250-4242.

• Bureau of Reclamation, Great Plains Regional Office, 316 North 26th Street, Billings, MT 59101—telephone (406) 247-7638.

• Bureau of Reclamation, Reclamation Service Center Library, Building 67, Room 167, Denver Federal Center, Sixth and Kipling, Denver, CO 80225—telephone (303) 445-2072.

• Bureau of Reclamation, Program Analysis Office, Room 7456, 1849 C Street NW, Washington, DC 20240—telephone (202) 208-4662.

• Angostura Irrigation District in South Dakota, Main Street, Oral, SD 57766.

Libraries

South Dakota State Library, Mercedes MacKay Building, 800 Governors Drive, Pierre, South Dakota 57501-2294.

Rapid City Public Library, 610 Quincy Street, Rapid City, SD 57701-3655.

Hot Springs Library, 1543 Baltimore Avenue, Hot Springs, South Dakota 57747.

Custer County Library, 447 Crook #4, Custer, South Dakota 57730.

Oglala Lakota College, 3 Mile Creek, Piya Wiconi Road, Kyle, South Dakota 57752.

Cheyenne River Community College, Main Street, Box 212, Eagle Butte, South Dakota 57625.

Lower Brule Tribal Library, Lower Brule Sioux Tribe, Lower Brule, South Dakota 57548.

Pine Ridge Library, Main St., Box 439, Pine Ridge, South Dakota 57770.

Hearing Process Information

Organizations and individuals wishing to present oral statements are strongly encouraged to contact Kenneth Parr, Bureau of Reclamation, Rapid City Field Office, at the address above, telephone (605) 394-9757 ext. 3004, or email at kparr@gp.usbr.gov, to announce their intention to participate in the public hearing. Requests to make presentations will also be accepted at the hearings. Written statements may also be submitted at the hearings.

Oral statements at the public hearings will be limited to 5 minutes. If time permits, the hearing officer may allow speakers to extend their oral statement after all persons wishing to comment have been heard. Whenever possible, speakers will be scheduled according to the time preference requested in their letter or telephone request. Scheduled speakers not present at the public hearing when called will lose their privilege in the scheduled order and will be recalled at the end of all the scheduled speakers. Those registering at the meetings may choose from the remaining time slots.

Please notify Reclamation at least 2 weeks in advance of the scheduled hearing if you require special needs in order to participate in the public hearing. Those having special needs should contact Kenneth Parr at (605) 394-9757 or through the Federal Relay System at (800) 877-8339 or via e-mail at kparr@gp.usbr.gov. Smoking will be prohibited in the hearing room and surrounding area.

Dated: January 3, 2001.
Gerald Kelso,
Assistant Regional Director.

[FR Doc. 01-1530 Filed 1-17-01; 8:45 am]

BILLING CODE 4310-MN-P